FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Gator Source and Supply Company, Inc. dba Danmax Shipping (OFF), 12978 SW 132nd Avenue, Miami, FL 33186, Officers: Victor Rickard, President (QI), Application Type: New OFF License.

LTA Import & Export, Inc. (NVO & OFF), 14331 SW 120th Street, Suite 203, Miami, FL 33186, Officers: Annette Trimino, Vice President (QI), Lester Trimino, President, Application Type: QI Change.

Zhejiang Sunmarr International Transportation Co., Ltd. (NVO), 17890 Castleton Street, Suite 105, City of Industry, CA 91748, Officers: Ya Liu, Deputy General Manager (QI), Jian C. Feng, Director, Application Type: New NVO License,

By the Commission.
Dated: September 27, 2013.
Rachel E. Dickon,
Assistant Secretary.

[FR Doc. 2013-23935 Filed 9-30-13; 8:45 am]

BILLING CODE 6730-01-P